DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 26, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Methods to Determine Taxable Income in connection with a Cost Sharing Arrangement—IRC section 482.

OMB Number: 1545-1364.

Treasury Decision Numbers: 9568.

Abstract: This document contains final regulations regarding methods to determine taxable income in connection with a cost sharing arrangement under section 482 of the Internal Revenue Code (Code). The final regulations address issues that have arisen in administering the current cost sharing regulations. The final regulations affect domestic and foreign entities that enter into cost sharing arrangements described in the final regulations.

Current Actions: There are no changes to the information collection.

Type of Review: Extension without change of a currently approved collection.

Affected Public: Business or other for-profit organizations.

Estimated Number of Respondents: 500.

Estimated Time per Response: 18 hours, 42 minutes.

Estimated Total Annual Burden Hours: 9,350.

2. Title: IRS e-file Signature Authorization for Forms 720, 2290, and 8849.

OMB Number: 1545-2081.

Form Number: 8879-EX.

Abstract: Form 8879-EX, IRS e-file Signature Authorization for Forms 720, 2990, and 8849, will be used in the Modernized e-File program. Form 8879-EX authorizes a taxpayer and an electronic return originator (ERO) to use a personal identification number (PIN) to electronically sign an electronic excise tax return and, if applicable, authorize an electronic funds withdrawal.

Current Actions: There are no changes being made to the form at this time.

Type of Review: Extension of a previously approved collection.

Affected Public: Business or other for-profit organizations.

Estimated Number of Respondents: 15,000.

Estimated Time per Respondent: 1 hr., 12 mins.

Estimated Total Annual Burden Hours: 16,750.

3. Title: IRS Paid Preparer Tax Identification Number (PTIN) Application and Renewal.

OMB Number: 1545-2190.

Form Project Number: Form W-12.

Abstract: A paid tax preparer uses Form W-12 to apply and renew for a preparer tax identification number (PTIN).

Current Actions: Updates to the indicators used to calculate burden for Form W-12 will increase the overall burden estimate by 1,740,000 hours.

Type of Review: Revision of a currently approved collection.

Affected Public: Individuals, business, or other for-profit organization.

Estimated Number of Responses: 1,200,000.

Estimated Time per Respondent: 2 hrs., 40 min.

Estimated Total Annual Burden Hours: 3,204,000.

4. Title: Application for Employee Retention Credit (ERC) Voluntary Disclosure Program.

OMB Number: 1545-2316.

Form Number: 15434.

Abstract: The Employee Retention Credit Voluntary Disclosure Program (ERC-VDP) was created in order to provide a streamlined avenue for taxpayers to return funds for improperly claimed ERC credits and be afforded a 20% reduction in the amount to return.

To participate in the initiative, taxpayers must submit information about the improper ERC claimed, refund received, their identifying information, and the identifying information of any preparer/advisor who assisted them with the ERC claim.

Current Actions: There are no changes to the form at this time. This notice is administrative process to renew the OMB approval on the form.

Type of Review: Extension of a currently approved collection.

Affected Public: Individuals and Households.

Estimated Number of Respondents: 5,000.

Estimated Time per Respondent: 2 hrs., 22 mins.

Estimated Total Annual Burden Hours: 11,800.

5. Title: Miscellaneous Changes Under the SECURE 2.0 Act of 2022.

OMB Number: 1545-2317.

Notice Number: 2024-2.

Abstract: Section 72(t)(1) generally imposes a 10 percent additional tax on any distribution from a qualified retirement plan within the meaning of section 4974(c), unless the distribution qualifies for one of the exceptions listed in section 72(t)(2). Section 72(t)(2)(L)(iii) provides that, in order to be considered a terminally ill individual, an employee must furnish sufficient evidence to the plan administrator. This information will be used by a plan administrator to determine whether an individual is eligible for a terminal illness distribution and thus eligible for the exception to the 10 percent additional tax under section 72(t)(2)(L).

Current Actions: There are no changes to the notice at this time.

Type of Review: Extension of a currently approved collection.

Affected Public: Individuals and Households.

Estimated Number of Respondents: 225,500.

Estimated Time per Respondent: 15 mins.

Estimated Total Annual Burden Hours: 11,375.

Authority: 44 U.S.C. 3501 et seq.

Melody Braswell,
Treasury PRA Clearance Officer.

[FR Doc. 2024-13990 Filed 6-25-24; 8:45 am]

BILLING CODE 4830-01-P